DEPARTMENT OF HEALTH AND HUMAN SERVICES

Centers for Medicare & Medicaid Services

[Document Identifiers: CMS-10062 and CMS-10942]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by February 9, 2026.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier: __/OMB Control Number: __, Room C4-26-05 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing

FOR FURTHER INFORMATION CONTACT: William N. Parham at (410) 786-4669.

SUPPLEMENTARY INFORMATION:

Contents

This notice sets out a summary of the use and burden associated with the following information collections. More detailed information can be found in each collection's supporting statement and associated materials (see ADDRESSES).

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Extension of currently approved collection; Title of Information Collection: Collection of Diagnostic Data in the Abbreviated RAPS Format from Medicare Advantage Organizations for Risk Adjusted Payments; Use: Section 1853 of the Social Security Act, hereafter referred to as “the Act,” requires CMS to make advance monthly payments to a Medicare Advantage (MA) organization for each beneficiary enrolled in an MA plan offered by the organization for coverage of Medicare Part A and Part B benefits. Section 1853(a)(1)(C) of the Act requires CMS to adjust the monthly payment amount for each enrollee to take into account the health status of MA plan enrollees. Under the CMS Hierarchical Condition Category (HCC) risk adjustment payment methodology, CMS determines risk scores for MA enrollees for a year and uses the appropriate enrollee risk score to adjust the monthly payment amount.

CMS used RAPS data, in combination with encounter data and Fee-For-Service (FFS) data, to develop the diagnosis-based portion of the risk scores for risk adjusted payment to MA organizations, PACE organizations, and MMPs. Form Number: CMS-10662 (OMB control number: 0938-0878); Frequency: Annually; Affected Public: Private Sector, Business or other for-profits, Not-for-profit institutions; Number of Respondents: 189; Total Annual Responses: 29,729,927; Total Annual Hours: 990,007. (For policy questions regarding this collection contact Sage Pasquale at 410-786-0091)

2. Type of Information Collection Request: New collection (Request for a new OMB control number); Title of Information Collection: State Exchange Improper Payment Measurement (SEIPM); Use: The Payment Integrity Information Act of 2019 (PIIA) requires Federal agencies to annually identify, review, measure, and report on the programs they administer that have been determined to be susceptible to significant improper payments. In 2016, HHS determined that payments of APTC are susceptible to significant improper payments and, as a result, are subject to the requirements of PIIA. In accordance with 45 CFR part 155, FFEs, SBE-FPs, and state Exchanges that operate their own eligibility and enrollment systems, determine the amount of APTC to be paid to qualified applicants. Starting in the FY22 Agency Financial Report (AFR), HHS began annually reporting improper payments of APTC administered through FFEs and SBE-FPs as part of the Exchange Improper Payment Measurement (EIPM) program. In 2024, HHS required State Exchanges to participate in the Improper Payment Pre-Testing and Assessment (IPPTA) to prepare State Exchanges for the future implementation of the SEIPM program.

HHS proposes to require state Exchanges to submit to HHS, a sample of tax household information from Qualified Health Plans (QHPs) that have associated APTC payments, for the purpose of being reviewed for improper payments. HHS proposes that the sample size would be of a sufficient quantity to produce a statistically valid estimate of improper payments and in accordance with requirements established by the Office of Management and Budget (OMB). HHS proposes that the measurement of all state Exchanges would occur on an annual basis unless otherwise determined by HHS. The calculated estimate of improper payments would be reported annually in the HHS Agency Financial Report (AFR) as an aggregate rate across all state Exchanges. At HHS' discretion, contractors would be used to support these activities. The burden associated with completion and return of the proposed required information will be the time it will take each state Exchange to meet with HHS to review the information. We estimate that the burden associated with this data collection and transfer will be no more than 8 hours for each sample collected. Form Number: CMS-10942 (OMB control number: 0938-NEW); Frequency: Annually; Affected Public: State, Local, or Tribal Governments; Number of Respondents: 20; Total Annual Responses: 20; Total Annual Hours: 800. (For policy questions regarding this collection contact Halina DeSantis at halina.desantis@cms.hhs.gov.)

William N. Parham, III,
Director, Division of Information Collections and Regulatory Impacts, Office of Strategic Operations and Regulatory Affairs.

[FR Doc. 2025-22478 Filed 12-10-25; 8:45 am]

BILLING CODE 4120-01-P